DEPARTMENT OF AGRICULTURE

Rural Business-Cooperative Service

Notice of a Public Meeting on Interim Rule for Rural Development Guaranteed Loan Programs

AGENCY: Rural Business-Cooperative Service, USDA.

ACTION: Notice of public meeting.

SUMMARY: The Rural Business-Cooperative Service, Rural Housing Service, and Rural Utilities Service, all Agencies within the USDA Rural Development Mission Area, have scheduled an informational and training workshop for new and existing lenders of the Mission Area's guaranteed loan programs. The purpose of this workshop is to familiarize lenders with the new guaranteed loan program regulation, 7 CFR Part 5001, published in the Federal Register on December 17, 2008. The new rule pertains to the Business and Industry, Community Facilities, Water and Waste Disposal, and Rural Energy for America guaranteed loan programs.

DATES: The workshop will be held in Irving, Texas at the Wyndham Dallas DFW Hotel on January 15, 2009 from 9 a.m. to 12:30 p.m. CST.

ADDRESSES: Wyndham Dallas DFW Hotel, 4441 W. John Carpenter Freeway, Irving, Texas 75063. Telephone: 972-929-8181.

Instructions for Participation: Pre-registration is strongly encouraged by contacting Chad Stovall at 202-720-2948 or chad.stovall@wdc.usda.gov. The deadline for pre-registration is January 8, 2009. On-site registration will begin at 8:30 a.m. CST. The workshop will begin at 9 a.m. and conclude by 12:30 p.m. Rural Development representatives will be available to direct you to the meeting room.

FOR FURTHER INFORMATION CONTACT: Chad Stovall, Rural Business-Cooperative Service, South Building, Room 5803, 1400 Independence Avenue, SW., Washington, DC 20250-3201. Telephone: 202-720-2948. E-mail: chad.stovall@wdc.usda.gov.

SUPPLEMENTARY INFORMATION: The interim rule was developed by Rural Development's Delivery Enhancement Task Force (DET), which was established in 2006 to simplify the delivery of Rural Development guaranteed loan programs while reducing administrative and operational costs. The rule is expected to enable Rural Development to administer and deliver the existing programs more efficiently through a unified regulatory platform. The rule can be reviewed at http://www.gpoaccess.gov/fr/index.html or page 76697 of the December 17, 2008 edition of the Federal Register.

Dated: December 19, 2008.
Ben Anderson,
Administrator, Rural Business-Cooperative Service.

[FR Doc. E8-31031 Filed 12-29-08; 8:45 am]

BILLING CODE 3410-XY-P